ENVIRONMENTAL PROTECTION AGENCY

[ER-FRL-9058-9]

Environmental Impact Statements; Notice of Availability

Responsible Agency: Office of Federal Activities, General Information 202-564-5632 or https://www.epa.gov/nepa.

Weekly receipt of Environmental Impact Statements (EIS) Filed October 8, 2021 10 a.m. EST Through October 18, 2021 10 a.m. EST Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210155, Draft, RUS, OK, Skeleton Creek Solar and Battery Storage Project, Garfield County, Oklahoma, Comment Period Ends: 12/06/2021, Contact: Kristen Bastis 202-692-4910.

EIS No. 20210156, Draft, USFS, BLM, ID, Husky 1 North Dry Ridge Phosphate Mine, Comment Period Ends: 12/06/2021, Contact: Wes Gilmer 208-478-6369.

Amended Notice

EIS No. 20210135, Draft, USFS, MN, Lutsen Mountains Ski Area Expansion Project, Comment Period Ends: 12/09/2021, Contact: Michael Jimenez 218-626-4383. Revision to FR Notice Published 09/10/2021; Extending the Comment Period from 10/25/2021 to 12/09/2021.

Dated: October 18, 2021.
Cindy S. Barger,
Director, NEPA Compliance Division, Office of Federal Activities.

[FR Doc. 2021-23057 Filed 10-21-21; 8:45 am]

BILLING CODE 6560-50-P